DEPARTMENT OF TRANSPORTATION

Federal Transit Administration

Limitation on Claims Against Proposed Public Transportation Projects

AGENCY: Federal Transit Administration (FTA), DOT.

ACTION: Notice.

SUMMARY: This notice announces a final environmental action taken by the Federal Transit Administration (FTA) for a project in Perth Amboy and South Amboy, Middlesex County, New Jersey. The purpose of this notice is to announce publicly the environmental decision by FTA on the subject project and to activate the limitation on any claims that may challenge this final environmental action.

DATES: By this notice, FTA is advising the public of final agency actions subject to Section 139(l) of Title 23, United States Code (U.S.C.). A claim seeking judicial review of FTA actions announced herein for the listed public transportation project will be barred unless the claim is filed on or before April 19, 2018.

FOR FURTHER INFORMATION CONTACT: Nancy-Ellen Zusman, Assistant Chief Counsel, Office of Chief Counsel, (312) 353-2577 or Alan Tabachnick, Environmental Protection Specialist, Office of Environmental Programs, (202) 366-8541. FTA is located at 1200 New Jersey Avenue SE., Washington, DC 20590. Office hours are from 9:00 a.m. to 5:00 p.m., Monday through Friday, except Federal holidays.

SUPPLEMENTARY INFORMATION: Notice is hereby given that FTA has taken final agency action by issuing a certain approval for the public transportation project listed below. The action on the project, as well as the laws under which such action was taken, is described in the documentation issued in connection with the project to comply with the National Environmental Policy Act (NEPA) and in other documents in the FTA administrative record for the project. Interested parties may contact either the project sponsor or the FTA Regional Office for more information. Contact information for FTA's Regional Offices may be found at https://www.fta.dot.gov.

This notice applies to all FTA decisions on the listed project as of the issuance date of this notice and all laws under which such action was taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The project and action that are the subject of this notice follows:

Project name and location: Raritan River Bridge Replacement Project, Middlesex County, New Jersey. Project Sponsor: New Jersey Transit Corporation. Project description: This project consists of the demolition of the 100+ year old two-track Raritan River swing span bridge and replacement with a new two-track moveable vertical life span bridge on a parallel alignment to the west of the existing bridge. The Raritan River rail bridge suffered structural damage during Hurricane Sandy in October 2012, when ocean surge moved the approach girder spans out of alignment atop their supporting piers. The replacement of the bridge will reduce the vulnerability of the existing Raritan River rail bridge to major storm flood events, enhancing the reliability of the North Jersey Coast Line (NJCL), the third busiest of NJ Transit's commuter rail lines.

Final agency actions: Section 4(f) determination, dated June 2017; Section 106 Programmatic Agreement, dated August 21, 2017; and a Finding of No Significant Impact, dated October 13, 2017. Supporting documentation: Environmental Assessment dated June, 2017.

Lucy Garliauskas,
Associate Administrator Planning and Environment.

[FR Doc. 2017-25062 Filed 11-17-17; 8:45 am]

BILLING CODE P